DEPARTMENT OF COMMERCE

National Oceanic and Atmospheric Administration

RIN 0648-XD264

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (Council) Executive Committee will meet in a closed session via webinar.

DATES: The webinar will be Tuesday, May 20, 2014, starting at 1:30 p.m.

ADDRESSES: The closed meetings will be held via webinar.

Council Address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the webinar is to develop recommendations to the Council Chairman regarding appointments to the River Herring and Shad Advisor Panel.

Dated: April 23, 2014.
Tracey L. Thompson,
Acting Deputy Director, Office of Sustainable Fisheries, National Marine Fisheries Service.

[FR Doc. 2014-09602 Filed 4-28-14; 8:45 am]

BILLING CODE 3510-22-P